DEPARTMENT OF COMMERCE

International Trade Administration

[A-570-112]

Certain Collated Steel Staples From the People's Republic of China: Preliminary Results of the Antidumping Duty Administrative Review and Preliminary Determination of No Shipments; 2021-2022

AGENCY: Enforcement and Compliance, International Trade Administration, Department of Commerce.

SUMMARY: The U.S. Department of Commerce (Commerce) preliminarily determines that Tianjin Hweschun Fasteners Manufacturing Co., Ltd. (Tianjin Hweschun) did not make sales of subject merchandise at less than normal value (NV), and that four companies had no shipments of subject merchandise during the period of review (POR) July 1, 2021, through June 30, 2022. We invite interested parties to comment on these preliminary results.

DATES: Applicable August 3, 2023.

FOR FURTHER INFORMATION CONTACT: Brian Smith or Max Goldman, AD/CVD Operations, Office VIII, Enforcement and Compliance, International Trade Administration, U.S. Department of Commerce, 1401 Constitution Avenue NW, Washington, DC 20230; telephone: (202) 482-1766 or (202) 482-0224, respectively.

SUPPLEMENTARY INFORMATION:

Background

Commerce is conducting an administrative review of the antidumping duty order on certain collated steel staples from the People's Republic of China (China).¹ In addition to the mandatory respondent, Tianjin Hweschun,² this review also covers Zhejiang Best Nail Industrial Co., Ltd. (Best Nail)/Shaoxing Bohui Import & Export Co., Ltd. (Best Nail/Shaoxing Bohui),³ China Staple (Tianjin) Co., Ltd. (China Staple), Shanghai Yueda Nails Co., Ltd. (Shanghai Yueda), Shijiazhuang Shuangming Trade Co., Ltd. (Shijiazhuang Shuangming), Tianjin Jinyifeng Hardware Co., Ltd. (Tianjin Jinyifeng), and Unicorn Fasteners Co., Ltd. (Unicorn Fasteners).⁴

¹ See Initiation of Antidumping and Countervailing Duty Administrative Reviews, 87 FR 54463 (September 6, 2022) (Initiation Notice).

² See Memorandum, “Respondent Selection,” dated October 21, 2022.

³ See Certain Collated Steel Staples from the People's Republic of China: Preliminary Results of the Antidumping Duty Administrative Review and Preliminary Determination of No Shipments; 2020-2021, 87 FR 48153 (August 8, 2022).

⁴ See Initiation Notice.

For events that occurred since the publication of the Initiation Notice and the analysis behind our preliminary results herein, see the Preliminary Decision Memorandum.⁵ A list of topics discussed in the Preliminary Decision Memorandum is included in the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁵ See Memorandum, “Decision Memorandum for the Preliminary Results of the Administrative Review of the Antidumping Duty Order on Certain Collated Steel Staples from the People's Republic of China; 2021-2022,” dated concurrently with, and hereby adopted by, this notice (Preliminary Decision Memorandum).

Scope of the Order ⁶

⁶ See Certain Collated Steel Staples from the People's Republic of China: Antidumping Duty Order, 85 FR 43815 (July 20, 2020) (Order).

The products covered by the Order are certain collated steel staples from China. For a complete description of the scope of the Order, see the Preliminary Decision Memorandum.

Preliminary Determination of No Shipments

Based on an analysis of information from U.S. Customs and Border Protection (CBP), the no-shipment certifications, and other record information, we preliminarily determine that Best Nail/Shaoxing Bohui, Tianjin Jinyifeng, and Unicorn Fasteners had no shipments of subject merchandise during the POR. Consistent with our practice in non-market economy (NME) cases, we are not rescinding this review with respect to these companies but, rather, we intend to complete the review and issue appropriate instructions to CBP based on the final results of the review.⁷

⁷ See Non-Market Economy Antidumping Proceedings: Assessment of Antidumping Duties, 76 FR 65694, 65694-95 (October 24, 2011) (NME AD Assessment); see also the “Assessment Rates” section, infra.

Separate Rates

We preliminarily determine that Tianjin Hweschun is eligible for a separate rate in this administrative review.⁸ Because China First, Shanghai Yueda, and Shijiazhuang Shuangming did not submit either a separate rate application or a separate rate certification, they are not eligible for a separate rate.

⁸ See Preliminary Decision Memorandum at the “Separate Rate Determinations” section for more details.

The China-Wide Entity

Commerce's policy regarding conditional review of the China-wide entity applies to this administrative review.⁹ Under this policy, the China-wide entity will not be under review unless a party specifically requests, or Commerce self-initiates, a review of the entity. Because no party requested a review of the China-wide entity, the entity is not under review, and the entity's rate (i.e., 112.01 percent) ¹⁰ is not subject to change. See the Preliminary Decision Memorandum for further discussion.

⁹ See Antidumping Proceedings: Announcement of Change in Department Practice for Respondent Selection in Antidumping Duty Proceedings and Conditional Review of the Nonmarket Economy Entity in NME Antidumping Duty Proceedings, 78 FR 65963 (November 4, 2013).

¹⁰ See Order, 85 FR at 43816.

Aside from Best Nail/Shaoxing Bohui, Tianjin Jinyifeng, and Unicorn Fasteners, for which we preliminarily find made no shipments of subject merchandise during the POR, Commerce considers all other companies for which a review was requested and which did not demonstrate separate rate eligibility, to be part of the China-wide entity.¹¹ For the preliminary results of this review, we consider three companies to be part of the China-wide entity: China First; Shanghai Yueda; and Shijiazhuang Shuangming.

¹¹ See Initiation Notice (“All firms listed below that wish to qualify for separate rate status in the administrative reviews involving NME countries must complete, as appropriate, either a separate rate application or certification, as described below.”).

Methodology

We are conducting this administrative review in accordance with section 751(a)(1)(B) of the Tariff Act of 1930, as amended (the Act) and 19 CFR 351.213. Commerce has calculated constructed export price in accordance with section 772(b) of the Act. Because China is an NME within the meaning of section 771(18) of the Act, we calculated NV in accordance with section 773(c) of the Act.

Preliminary Results of Review

We preliminarily determine that the following weighted-average dumping margin exists for the period July 1, 2021, through June 30, 2022:

Exporter | Weighted- average dumping margin (percent)
Tianjin Hweschun Fasteners Manufacturing Co., Ltd | 0.00

Disclosure and Public Comment

We intend to disclose to interested parties the calculations performed for these preliminary results in accordance with 19 CFR 351.224(b). Interested parties may submit case briefs no later than 30 days after the date of publication of these preliminary results of review.¹² Rebuttal briefs, limited to issues raised in case briefs, may be submitted no later than seven days after the deadline date for case briefs.¹³ Pursuant to 19 CFR 351.309(c)(2) and (d)(2), parties who submit case briefs or rebuttal briefs in this review are encouraged to submit with each argument: (1) a statement of the issue; (2) a brief summary of the argument; and (3) a table of authorities. Executive summaries should be limited to five pages total, including footnotes.

¹² See 19 CFR 351.309(c).

¹³ See 19 CFR 351.309(d); see also Temporary Rule Modifying AD/CVD Service Requirements Due to COVID-19, 85 FR 17006, 17007 (March 26, 2020) (“To provide adequate time for release of case briefs via ACCESS, {Enforcement and Compliance} intends to schedule the due date for all rebuttal briefs to be 7 days after case briefs are filed (while these modifications remain in effect.”)).

Pursuant to 19 CFR 351.310(c), interested parties who wish to request a hearing, limited to issues raised in the case and rebuttal briefs, must submit a written request to the Assistant Secretary for Enforcement and Compliance within 30 days after the date of publication of this notice.¹⁴ Requests should contain: (1) the party's name, address, and telephone number; (2) the number of participants; (3) whether any participant is a foreign national; and (4) a list of the issues to be discussed. If a request for a hearing is made, Commerce intends to hold the hearing at a time and date to be determined.¹⁵ Parties should confirm by telephone the date and time of the hearing two days before the scheduled date.

¹⁴ See 19 CFR 351.310(c).

¹⁵ See 19 CFR 351.310(d).

All briefs and hearing requests must be filed electronically using ACCESS ¹⁶ and must be served on interested parties.¹⁷ An electronically filed document must be received successfully in its entirety by ACCESS by 5:00 p.m. Eastern Time. Note that Commerce has temporarily modified certain of its requirements for serving documents containing business proprietary information, until further notice.¹⁸

¹⁶ See 19 CFR 351.303.

¹⁷ See 19 CFR 351.303(f).

¹⁸ See Temporary Rule Modifying AD/CVD Service Requirements Due to COVID-19; Extension of Effective Period, 85 FR 41363 (July 10, 2020).

Unless the deadline is otherwise extended, we intend to issue the final results of this administrative review, which will include the results of our analysis of the issues raised by the parties in the case briefs, within 120 days of publication of these preliminary results in the Federal Register, pursuant to section 751(a)(3)(A) of the Act and 19 CFR 351.213(h).

Assessment Rates

Upon issuance of the final results, Commerce will determine, and CBP shall assess, antidumping duties on all appropriate entries covered by this review, in accordance with 19 CFR 351.212(b). If Tianjin Hweschun's ad valorem weighted-average dumping margin is not zero or de minimis (i.e., less than 0.50 percent) in the final results of this review, Commerce will calculate importer-specific assessment rates for that respondent, in accordance with 19 CFR 351.212(b)(1).¹⁹ Pursuant to 19 CFR 351.212(b)(1), where the respondent reported the entered value of its U.S. sales, we will calculate importer-specific ad valorem duty assessment rates based on the ratio of the total amount of dumping calculated for the examined sales to the total entered value of those sales. Where the respondent did not report entered value, we will calculate importer-specific per-unit duty assessment rates based on the ratio of the total amount of dumping calculated for the examined sales to the total quantity of those sales. To determine whether an importer-specific, per-unit assessment rate is de minimis, in accordance with 19 CFR 351.106(c)(2), we also will calculate an importer-specific ad valorem ratio based on estimated entered values.

¹⁹ In these preliminary results, Commerce applied the assessment rate calculation method adopted in Antidumping Proceedings: Calculation of the Weighted-Average Dumping Margin and Assessment Rate in Certain Antidumping Proceedings: Final Modification, 77 FR 8101 (February 14, 2012).

If, in the final results, Tianjin Hweschun's weighted-average dumping margin continues to be zero or de minimis (i.e., less than 0.5 percent), Commerce will instruct CBP to liquidate the appropriate entries without regard to antidumping duties.²⁰ For entries that were not reported in the U.S. sales database submitted by Tianjin Hweschun during this review, and for the three companies that do not qualify for a separate rate, Commerce will instruct CBP to liquidate such entries at the China-wide rate (i.e., 112.01 percent).²¹ In addition, if we continue to find no shipments of subject merchandise for Best Nail, Shaoxing Bohui, Tianjin Jinyifeng, and/or Unicorn Fasteners in the final results, any suspended entries of subject merchandise associated with these companies will be liquidated at the China-wide rate.²²

²⁰ See 19 CFR 351.106(c)(2).

²¹ The China-wide rate determined in the investigation was 122.55 percent. See Order, 85 FR at 43816. This rate was adjusted for export subsidies to determine the cash deposit rate (112.01 percent) collected for companies in the China-wide entity.

²² See NME AD Assessment.

Commerce intends to issue appropriate assessment instructions to CBP 35 days after the publication of the final results in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this review for all shipments of the subject merchandise from China entered, or withdrawn from warehouse, for consumption on or after the publication date, as provided for by section 751(a)(2)(C) of the Act: (1) for Tianjin Hweschun, the cash deposit rate will be that rate established in the final results of this review (except, if the rate is de minimis, then a cash deposit rate of zero will be required); (2) for previously investigated or reviewed Chinese and non-Chinese exporters for which a review was not requested and that received a separate rate in a prior segment of this proceeding, the cash deposit rate will continue to be the existing exporter-specific rate; (3) for all Chinese exporters of subject merchandise that have not been found to be entitled to a separate rate, the cash deposit rate will be the rate for the China-wide entity (i.e., 112.01 percent); and (4) for all non-Chinese exporters of subject merchandise that have not received their own rate, the cash deposit rate will be the rate applicable to the Chinese exporter that supplied that non-Chinese exporter. These cash deposit requirements, when imposed, shall remain in effect until further notice.

Notification to Importers

This notice also serves as a preliminary reminder to importers of their responsibility under 19 CFR 351.402(f) to file a certificate regarding the reimbursement of antidumping and/or countervailing duties prior to liquidation of the relevant entries during this review period. Failure to comply with this requirement could result in Commerce's presumption that reimbursement of antidumping and/or countervailing duties occurred and the subsequent assessment of double antidumping duties, and/or increase in the amount of antidumping duties by the amount of the countervailing duties.

Notification to Interested Parties

We are issuing and publishing the preliminary results of this review in accordance with sections 751(a)(l) and 777(i)(l) of the Act, and 19 CFR 351.221(b)(4).

Dated: July 28, 2023.
Lisa W. Wang,
Assistant Secretary for Enforcement and Compliance.

Appendix

List of Topics Discussed in the Preliminary Decision Memorandum

I. Summary

II. Background

III. Period of Review

IV. Scope of the Order

V. Preliminary Determination of No Shipments

VI. Discussion of the Methodology

VII. Recommendation

[FR Doc. 2023-16566 Filed 8-2-23; 8:45 am]

BILLING CODE 3510-DS-P